DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before November 10, 2003.

ADDRESSES: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with part 107 of the Federal Hazardous materials transportation law (49 U.S.C. 5117(b); 49 CFR 1.53(b)).

Issued in Washington, DC, on October 20, 2003.
R. Ryan Posten,
Exemptions Program Officer, Office of Hazardous Materials Exemptions and Approvals.

Application No. | Docket No. | Applicant | Modification of exemption
10323-M |  | Air Products and Chemicals, Inc., Allentown, PA (See Footnote 1) | 10323
10504-M |  | Air Products and Chemicals, Inc., Allentown, PA (See Footnote 2) | 10504
11598-M |  | Metalcraft, Inc., Baltimore, MD (See Footnote 3) | 11598
11646-M |  | Bundit, Vesta, MN (See Footnote 4) | 11646
12443-M | RSPA-00-7209 | Kinder Morgan Materials Services, Sewickley, PA (See Footnote 5) | 12443
12698-M | RSPA-01-9652 | Precision Technik, Inc., Atlanta, GA (See Footnote 6) | 12698
13169-M | RSPA-02-13894 | ConocoPhillips Alaska, Inc., Anchorage, AK (See Footnote 7) | 13169
13179-M | RSPA-02-14020 | Onyx Environmental Services, L.L.C., Flanders, NJ (See Footnote 8) | 13179
¹ To modify the exemption to update testing requirements of the non-DOT specification full-open head salvage cylinders and add a Division 2.2 material.
² To modify the exemption to authorize a design change of the non-DOT specification full removable head salvage cylinder, add a Class 8 material and add cargo vessel as an additional mode of transportation.
³ To modify the exemption to authorize the use of an additional DOT Specification cylinder equipped with an alternative pressure relief device system for transporting certain Division 2.2 materials.
⁴ To modify the exemption to authorize the transportation of additional Class 3 materials unloaded from drums and/or intermediate bulk containers without removal from motor vehicles.
⁵ To modify the exemption to authorize product hoses for a Class 9 elevated temperature, liquid material to remain connected provided monitoring occurs at least every 12 hours.
⁶ To modify the exemption to authorize design changes of the non-DOT specification full opening head salvage cylinders for overpacking a damaged or leaking cylinder containing various hazardous materials.
⁷ To reissue the exemption originally issued on an emergency basis for the transportation of certain Class 3 materials in DOT Specification UN31A intermediate bulk containers which exceed quantity limitations when shipped by air.
⁸ To modify the exemption to authorize cargo vessel as an additional mode of transportation for transporting Division 2.1 materials which has been removed from their inner packaging and are being sent for disposal.

[FR Doc. 03-26870 Filed 10-23-03; 8:45 am]

BILLING CODE 4910-60-M